BUREAU OF CONSUMER FINANCIAL PROTECTION

[Docket No. CFPB-2019-0045]

Agency Information Collection Activities: Submission for OMB Review; Comment Request

AGENCY: Bureau of Consumer Financial Protection.

ACTION: Notice and request for comment.

SUMMARY: In accordance with the Paperwork Reduction Act of 1995 (PRA), the Bureau of Consumer Financial Protection (Bureau) is requesting to renew the Office of Management and Budget (OMB) approval for an existing information collection titled, “Generic Information Collection Plan for the Collection for Qualitative Consumer Education, Engagement and Experience Information Collections.”

DATES: Written comments are encouraged and must be received on or before September 25, 2019 to be assured of consideration.

ADDRESSES: Comments in response to this notice are to be directed towards OMB and to the attention of the OMB Desk Officer for the Bureau of Consumer Financial Protection. You may submit comments, identified by the title of the information collection, OMB Control Number (see below), and docket number (see above), by any of the following methods:

• Electronic: http://www.regulations.gov. Follow the instructions for submitting comments.

• Email: OIRA_submission@omb.eop.gov.

• Fax: (202) 395-5806.

• Mail: Office of Management and Budget, New Executive Office Building, Room 10235, Washington, DC 20503.

In general, all comments received will become public records, including any personal information provided. Sensitive personal information, such as account numbers or Social Security numbers, should not be included.

FOR FURTHER INFORMATION CONTACT: Documentation prepared in support of this information collection request is available at www.reginfo.gov (this link becomes active on the day following publication of this notice). Select “Information Collection Review,” under “Currently under review, use the dropdown menu “Select Agency” and select “Consumer Financial Protection Bureau” (recent submissions to OMB will be at the top of the list). The same documentation is also available at http://www.regulations.gov. Requests for additional information should be directed to Darrin King at (202) 435-9575, or email: CFPB_PRA@cfpb.gov. If you require this document in an alternative electronic format, please contact CFPB_Accessibility@cfpb.gov. Please do not submit comments to these email boxes.

SUPPLEMENTARY INFORMATION:

Title of Collection: Generic Information Collection Plan for the Collection for Qualitative Consumer Education, Engagement and Experience Information Collections.

OMB Control Number: 3170-0036.

Type of Review: Extension without change of a currently approved collection.

Affected Public: Individuals or households, State, Local, or Tribal governments, Private Sector.

Estimated Number of Annual Respondents: 4,000.

Estimated Annual Burden Hours: 2,000.

Abstract: Under the Dodd-Frank Wall Street Reform and Consumer Protection Act, Public Law 111-203, Section 1021(c), one of the Bureau's primary functions is to conduct financial education programs. The Bureau seeks to obtain approval of a generic information collection plan to collect qualitative data on effective financial education strategies and consumer experiences in the financial marketplace from a variety of respondents, including financial educators and consumers. The Bureau will collect this information through a variety of methods, including in-person meetings, interviews, focus groups, qualitative surveys, online discussion forums, social media polls, and other qualitative methods as necessary. The information collected through these processes will increase the Bureau's understanding of consumers' financial experiences, financial education and empowerment programs, and practices that can improve financial decision-making skills and outcomes for consumers. This information will also enable the Bureau to better communicate to consumers about the availability of Bureau tools and resources that consumers can use to make better informed financial decisions.

Request for Comments: The Bureau issued a 60-day Federal Register notice on June 5, 2019, 84 FR 26078, CFPB-2019-0030 Comments were solicited and continue to be invited on: (a) Whether the collection of information is necessary for the proper performance of the functions of the Bureau, including whether the information will have practical utility; (b) The accuracy of the Bureau's estimate of the burden of the collection of information, including the validity of the methods and the assumptions used; (c) Ways to enhance the quality, utility, and clarity of the information to be collected; and (d) Ways to minimize the burden of the collection of information on respondents, including through the use of automated collection techniques or other forms of information technology. Comments submitted in response to this notice will be reviewed by OMB as part of its review of this request. All comments will become a matter of public record.

Dated: August 20, 2019.
Darrin A. King,
Paperwork Reduction Act Officer, Bureau of Consumer Financial Protection.

[FR Doc. 2019-18251 Filed 8-23-19; 8:45 am]

BILLING CODE 4810-AM-P